DEPARTMENT OF HOUSING AND URBAN DEVELOPMENT

[Docket No. FR-4743-N-02]

Notice of Planned Closing of Tacoma, Post-of-Duty Station

AGENCY: Office of Inspector General, HUD.

ACTION: Notice of planned closing of Tacoma, post-of-duty station.

SUMMARY: This notice advises the public that the HUD Office of Inspector General is closing its Tacoma, Washington post-of-duty station, and also provides a cost-benefit analysis of the impact of the closure.

FOR FURTHER INFORMATION CONTACT: Bryan Saddler, Counsel to the Inspector General, Room 8260, Department of Housing and Urban Development, 451 Seventh Street, SW., Washington, DC 20410, (202) 708-1613. (This is not a toll free number.) A telecommunications device for hearing- and speech-impaired persons (TTY) is available at 1-800-877-8339 (Federal Information Relay Services). (This is a toll-free number.)

SUPPLEMENTARY INFORMATION:

Background

In 1998, HUD's Office of the Inspector General (HUD/OIG) established a single person post-of-duty in Tacoma, Washington, to give direct support to the Tacoma, Washington office's Operation Safe Home (OSH) initiative to combat violent and drug-related crime in public and assisted housing in the city and nearby communities. Although Tacoma, Washington, is only about 30 miles from Seattle, Washington, where the HUD/OIG regional office is located, nationwide experience since the initiation of OSH in 1994 had proven that the best results/impact could be obtained when a HUD/OIG Special Agent was physically located in the target city. However, in accordance with the requirements of the Fiscal Year 2002 HUD Appropriations Act (Pub.L. 107-73, approved November 26, 2001), HUD/OIG is terminating OSH and re-deploying staff to focus on investigations involving single-family fraud and property flipping. This change eliminates the need to maintain a separate post-of-duty station in Tacoma, Washington, and gives HUD/OIG the opportunity to generate cost savings associated with discontinuing an additional office.

Section 7(p) of the Department of Housing and Urban Development Act (42 U.S.C. 3535(p)) provides that a plan for field reorganization, which may involve the closing of any field or regional office, of the Department of Housing and Urban Development may not take effect until 90 days after a cost-benefit analysis of the effect of the plan on the office in question is published in the Federal Register. The required cost-benefit analysis should include: (1) An estimate of cost savings anticipated; (2) an estimate of the additional cost which will result from the reorganization; (3) a discussion of the impact on the local economy; and (4) an estimate of the effect of the reorganization on the availability, accessibility, and quality of services provided for recipients of those services.

Legislative history pertaining to section 7(p) indicates that not all reorganizations are subject to the requirements of section 7(p). Congress stated that “[t]his amendment is not intended to [apply] to or restrict the internal operations or organization of the Department (such as the establishment of new or combination of existing organization units within a field office, the duty stationing of employees in various locations to provide on-site service, or the establishment or closing, based on workload, of small, informal offices such as valuation stations).” (See House Conference Report No. 95-1792, October 14, 1978 at 105-106.)

The one-person duty-station in Tacoma, Washington, is a single purpose duty station, and the duty station is being closed based on workload rather than a reorganization of OIG field offices. Although notice of the closing of a duty station is not subject to the requirement of section 7(p), as supported by legislative history, OIG nevertheless prepared a cost-benefit analysis for its own use in determining whether to proceed with the closing. Through this notice, OIG advises the public of the closing of the Tacoma, Washington duty station and provides the cost-benefit analysis of the impact of the closure.

Impact of the Closure of the Tacoma, Washington Post-of-Duty Station

HUD/OIG considered the costs and benefits of closing the Tacoma, Washington office, and is publishing its cost-benefit analysis with this notice. In summary, HUD/OIG has determined that the closure with result in a cost savings, and, as a result of the size and limited function of the office, will cause no appreciable impact on the provision of authorized investigative services/activities in the area (i.e., OSH activities, of course, will be impacted, but HUD/OIG has been directed to terminate these activities).

Cost-Benefit Analysis

A. Cost Savings

The Tacoma, Washington post-of-duty currently costs $1,194 per month for the space rental and $45.39 per month for the telephone service. Thus, closing the post-of-duty will result in an annual savings of $14,783. In addition, by closing the office HUD/OIG will not be required to incur additional costs associated with current plans to install high-speed computer access lines to and on the premises.

B. Additional Costs

There are no offsetting expenses anticipated. The Special Agent assigned to the Tacoma, Washington post-of-duty will be reassigned to the Seattle Regional Office, without need for relocation reimbursement because the Special Agent actually resides closer to the Seattle Regional Office than to the Tacoma, Washington post-of-duty. Further, there is adequate existing office space to accommodate the Special Agent within the Seattle Regional Office.

C. Impact on Local Economy

The Tacoma, Washington post-of-duty office space is located in government office space: the Federal Court House. Further, the post-of-duty comprises a mere 354 square feet of space, which can easily be re-leased to other tenants or used by security staff (GSA Law Enforcement) who occupy the adjacent space. Thus, no appreciable impact on the local economy is anticipated.

D. Effect on Availability, Accessibility and Quality of Services Provided to Recipients of Those Services

The establishment of the Tacoma, Washington post-of-duty was based entirely on the needs of the HUD/OIG to have a Special Agent in closer proximity to OSH activities conducted in the Tacoma area. These activities are being terminated. Further, as was the case prior to 1998, fraud investigations in the Tacoma area can be more effectively addressed by agents assigned to the Seattle Regional Office which is about 30 miles away.

For the reasons stated in this notice, HUD/OIG intends to proceed to close its Tacoma, Washington post-of-duty station at the expiration of the 90-day period from the date of publication of this notice.

Dated: March 8, 2002.
David C. Williams,
Acting Inspector General.

[FR Doc. 02-6335 Filed 3-15-02; 8:45 am]

BILLING CODE 4210-78-P